DEPARTMENT OF THE TREASURY

Alcohol and Tobacco Tax and Trade Bureau

27 CFR Part 19

[Notice No. 92; Re: Notice Nos. 83 and 86; Docket No. TTB-2008-0004]

RIN 1513-AA23

Proposed Revision of Distilled Spirits Plant Regulations (2001R-194P); Extension of Comment Period

AGENCY: Alcohol and Tobacco Tax and Trade Bureau, Treasury.

ACTION: Notice of proposed rulemaking; extension of comment period.

SUMMARY: In response to an industry association request, the Alcohol and Tobacco Tax and Trade Bureau extends the comment period for Notice No. 83, Proposed Revision of Distilled Spirits Plant Regulations, a notice of proposed rulemaking published in the Federal Register on May 8, 2008, for an additional 90 days.

DATES: Written comments on Notice No. 83 must now be received on or before February 3, 2009.

ADDRESSES: You may send comments on Notice No. 83 to one of the following addresses:

• http://www.regulations.gov (via the online comment form for this notice as posted within Docket No. TTB-2008-0004 on Regulations.gov, the Federal e-rulemaking portal); or

• Mail: Director, Regulations and Rulings Division, Alcohol and Tobacco Tax and Trade Bureau, P.O. Box 14412, Washington, DC 20044-4412; or

• Hand Delivery/Courier in Lieu of Mail: Alcohol and Tobacco Tax and Trade Bureau, 1310 G Street, NW., Suite 200-E, Washington, DC 20005.

You may view copies of this notice, Notice No. 83, and any comments we receive about Notice No. 83 at http://www.regulations.gov. A direct link to the appropriate Regulations.gov docket is available under Notice No. 83 on the TTB Web site at http://www.ttb.gov/spirits/spirits_rulemaking.shtml. You also may view copies of this notice, Notice No. 83, Notice No. 86, and any comments we receive about Notice No. 83 by appointment at the TTB Information Resource Center, 1310 G Street, NW., Washington, DC 20220. To make an appointment, call 202-927-2400.

FOR FURTHER INFORMATION CONTACT: Daniel J. Hiland, Regulations and Rulings Division, Alcohol and Tobacco Tax and Trade Bureau, 1310 G Street, NW., Suite 200-E, Washington, DC 20220; telephone 202-927-8176.

SUPPLEMENTARY INFORMATION: On May 8, 2008, the Alcohol and Tobacco Tax and Trade Bureau (TTB) published Notice No. 83, Proposed Revision of Distilled Spirits Plant Regulations, in the Federal Register (73 FR 26200). In that notice of proposed rulemaking, TTB requested public comment on its proposed comprehensive revision of the regulations governing distilled spirits plants. The 90-day comment period for Notice No. 83, when published, was scheduled to close on August 6, 2008. However, TTB received a request from E. & J. Gallo Winery to extend the comment period for Notice No. 83 for an additional 120 days. In response to that request, TTB, on August 1, 2008, published Notice No. 86 in the Federal Register (73 FR 44952) extending the comment period for Notice No. 83 for an additional 90 days. Thus, comments on Notice No. 83 became due on or before November 5, 2008.

On October 20, 2008, TTB received another comment period extension request, from the Distilled Spirits Council of the United States, Inc. (DISCUS), a national trade association representing producers and marketers of distilled spirits sold in the United States. DISCUS requested a further 90-day extension of the comment period for Notice No. 83. DISCUS noted in support of its request that the vicissitudes confronting the marketplace and American business as a whole necessitates additional time for industry to focus on the complexities of the proposed rule. DISCUS further asserted that the regulations in question have a major impact on the requirements to operate distilled spirits plants and that the opportunity to streamline and modernize those regulations is of critical importance, particularly in light of today's economy.

In response to this latest request, TTB extends the comment period for Notice No. 83 for an additional 90 days, which together with the original 90-day comment period and the first 90-day extension of the comment period will leave Notice No. 83 open to public comment for 9 months. We believe this time period will allow industry members and the public to fully consider the proposals outlined in Notice No. 83. Therefore, comments on Notice No. 83 are now due on or before February 3, 2009.

Drafting Information: Gabriel J. Hiza of the Regulations and Rulings Division drafted this notice.

Signed: October 22, 2008.
William H. Foster,
Assistant Administrator, Headquarters Operations.

[FR Doc. E8-25896 Filed 10-28-08; 8:45 am]

BILLING CODE 4810-31-P